DEPARTMENT OF THE INTERIOR

National Park Service

[NPS-WASO-NAGPRA-NPS0033279; PPWOCRADN0-PCU00RP14.R50000]

Notice of Intent To Repatriate Cultural Item: The Buffalo History Museum, Buffalo, NY

AGENCY: National Park Service, Interior.

ACTION: Notice.

SUMMARY: The Buffalo History Museum (previously known as the Buffalo Historical Society), in consultation with the appropriate Indian Tribes or Native Hawaiian organizations, has determined that the cultural items listed in this notice meet the definition of sacred objects. Lineal descendants or representatives of any Indian Tribe or Native Hawaiian organization not identified in this notice that wish to claim these cultural items should submit a written request to The Buffalo History Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Buffalo History Museum at the address in this notice by February 22, 2022.

FOR FURTHER INFORMATION CONTACT: Walter Mayer, Sr. Director of Museum Collections, The Buffalo History Museum, 1 Museum Court, Buffalo, NY 14216, telephone (716) 873-9644, email wmayer@buffalhistory.org.

SUPPLEMENTARY INFORMATION: Notice is here given in accordance with the Native American Graves Protection and Repatriation Act (NAGPRA), 25 U.S.C. 3005, of the intent to repatriate cultural items under the control of the Buffalo History Museum, Buffalo, NY, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the late 19th century and/or early 20th century, three cultural items were presented by Chief Delos Big Kittle of the Seneca Nation of Indians [previously listed as Seneca Nation of New York] to George Tucker, who became an adopted member of the Bear Clan in 1918. In 1931, the Buffalo History Museum purchased these items from George Tucker. The three cultural items are one sash worn on all ceremonial occasions by Delos Big Kittle, one turtle Rattle, and one child's turtle rattle made by Delos Big Kittle's son, Richard Big Kittle. Museum documentation indicates that these cultural items are sacred objects owned by Delos Big Kittle. Richard Big Kittle of the Seneca Nation of Indians and a descendant of Delos Big Kittle, has requested repatriation of these three items. These items are important to Delos Big Kittle's descendants and can be used in the practice of traditional ceremonials.

Officials of the Buffalo History Museum have determined that:

• Pursuant to 25 U.S.C. 3001(3)(C), the three cultural items described above are specific ceremonial objects needed by traditional Native American religious leaders for the practice of traditional Native American religions by their present-day adherents and can be used in the practice of traditional ceremonials by descendants of Delos Big Kittle.

• Pursuant to 25 U.S.C. 3001(2), there is a relationship of shared group identity that can be reasonably traced between the sacred objects and Richard Big Kittle.

Additional Requestors and Disposition

Lineal descendants or representatives of any Indian Tribe or Native Hawaiian organization not identified in this notice that wish to claim these cultural items should submit a written request with information in support of the claim to Walter Mayer, Sr. Director of Museum Collections, The Buffalo History Museum, 1 Museum Court, Buffalo, NY 14216, telephone (716) 873-9644, email wmayer@buffalhistory.org, by February 22, 2022. After that date, if no additional claimants have come forward, transfer of control of the sacred objects to Richard Big Kittle may proceed.

The Buffalo History Museum is responsible for notifying Richard Big Kittle and the Cayuga Nation; Oneida Indian Nation [previously listed as Oneida Nation of New York]; Oneida Nation [previously listed as Oneida Tribe of Indians of Wisconsin]; Onondaga Nation; Saint Regis Mohawk Tribe [previously listed as St. Regis Band of Mohawk Indians of New York]; Seneca Nation of Indians [previous listed as Seneca Nation of New York]; Seneca-Cayuga Nation [previously listed as Seneca-Cayuga Tribe of Oklahoma]; Tonawanda Band of Seneca [previously listed as Tonawanda Band of Seneca Indians of New York]; and Tuscarora Nation that this notice has been published.

Dated: January 12, 2022.
Melanie O'Brien,
Manager, National NAGPRA Program.

[FR Doc. 2022-01046 Filed 1-19-22; 8:45 am]

BILLING CODE 4312-52-P